ENVIRONMENTAL PROTECTION AGENCY

40 CFR Parts 122, 123, 403, 501 and 503

[FRL-9169-8]

Public Meeting With Interested Stakeholders for National Pollutant Discharge Elimination System (NPDES) Electronic Reporting Rule

AGENCY: Environmental Protection Agency.

ACTION: Notice of public meeting.

SUMMARY: The United States Environmental Protection Agency (EPA) gives notice of a meeting to discuss the NPDES Electronic Reporting Rule. With this rulemaking, EPA is utilizing 21st Century modern technologies to improve management and performance of the NPDES program by requiring electronic reporting of NPDES information from regulated facilities. This will reduce the burden for facilities to report to regulatory agencies and for states to report to EPA. Expected benefits include lower processing costs for facilities and states, improved data quality and accuracy, greater data accessibility and transparency for the public, and an increased ability to target and address noncompliance that will improve and protect water quality. This meeting will be a session in which EPA will discuss electronic reporting alternatives for submission of NPDES information directly to states and/or EPA from permittees. Topics include the feasibility of requiring electronic reporting in areas such as electronic discharge monitoring reports (eDMRs), electronic notice of intent (eNOI), and electronic program reports. The purpose of this meeting is to give interested parties the opportunity to discuss the proposed rule and to provide EPA feedback on the presented options.

DATES: The meeting will be held on Tuesday, July 13, 2010 from 1 p.m. till 3 p.m.

ADDRESSES: The meeting location is Room 1117A EPA East, 1201 Constitution Ave., NW., Washington, DC 20460.

FOR FURTHER INFORMATION CONTACT: Anuj Vaidya 202-564-3459, vaidya.anuj@epa.gov or Sharon Gonder 202-564-5256, gonder.sharon@epa.gov. If you are interested in attending this meeting, please contact Mr. Anuj Vaidya or Ms. Sharon Gonder to register for this meeting no later than Wednesday, July 7, 2010.

SUPPLEMENTARY INFORMATION: This meeting will be open to all stakeholders interested in the rule EPA is developing to collect NPDES program management information via electronic reporting from permittees to states and/or EPA. After considerable dialogue with NPDES authorized states, EPA decided to develop a proposed rulemaking to require electronic reporting for the NPDES program ensuring that the site specific information essential for the protection of public health and the environment is available on a nationally consistent, timely, accurate and complete basis.

EPA believes this rulemaking will improve the ability of EPA and states to protect and preserve water quality by mandating electronic reporting directly from facilities in order to increase the volume and quality of data available to identify and address environmental problems within available resources. EPA also believes this rulemaking will improve overall management and oversight of the NPDES program and improve compliance by individual facilities. These efficiencies should provide significant benefits, including reduced costs of processing paper forms, improved quality and accuracy of the data available to regulatory agencies, more timely and expanded use of the data to identify, target, and address problems, quicker availability of the data for use, and increased accessibility and transparency of the data to the public. These efficiencies should allow states to shift precious resources from data management activities to those more targeted to protect the environment.

For this meeting, EPA plans to seek comment from stakeholders regarding the feasibility of electronic reporting requirements, which existing reporting requirements for NPDES subprograms (e.g., pretreatment, or biosolids) could be adapted into electronic reporting, costs and benefits to the states, permittees, EPA and the public, and the timing of the rule implementation schedule. EPA believes that such electronic reporting requirements will improve the timeliness, accuracy, and completeness of the NPDES data and improve the transparency of the NPDES program to the public.

Dated: June 24, 2010.
Lisa Lund,
Director, Office of Compliance.

[FR Doc. 2010-15885 Filed 7-1-10; 8:45 am]

BILLING CODE 6560-50-P